ENVIRONMENTAL PROTECTION AGENCY

[OPPT-2003-0036; FRL-7325-2]

National Advisory Committee for Acute Exposure Guideline Levels for Hazardous Substances; Notice of Public Meeting; Correction

AGENCY: Environmental Protection Agency (EPA).

ACTION: Notice.

SUMMARY: In the Federal Register of August 20, 2003, EPA announced a Notice of a public meeting scheduled for the National Advisory Committee for Acute Exposure Guideline Levels for Hazardous Substances for September 16—18, 2003, in Washington, DC. There were three chemicals that were inadvertently omitted and seven chemicals that were inadvertently listed. This document is being published to correct the list of chemicals.

FOR FURTHER INFORMATION CONTACT: For general information contact: Barbara Cunningham, Director, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Paul S. Tobin, Designated Federal Officer (DFO), Economics, Exposure, and Technology Division (7406M), Office of Pollution Prevention and Toxics, 1200 Pennsylvania Ave., NW., Washington, DC 20460-0001; telephone number: (202) 564-8557; e-mail address: tobin.paul@epa.gov.

SUPPLEMENTARY INFORMATION:

I. General Information

A. Does this Action Apply to Me?

The Agency included in the notice of August 20, 2003 a list of those who may be potentially affected by this action. If you have questions regarding the applicability of this action to a particular entity, consult the person listed under FOR FURTHER INFORMATION CONTACT.

B. How Can I Get Copies of this Document and Other Related Information?

1. Docket. EPA has established an official public docket for this action under docket identification (ID) number OPPT-2003-0036. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Correction

In FR Doc. 03-21352 published in the Federal Register of August 20, 2003 (FRL-7319-2), appearing on page 50135, in the first column, in the SUMMARY, beginning with the twelfth line, the list of chemicals should have read as follows:

Acetone cyanohydrin; acetonitrile; acrylic acid; bromine; butane; carbon monoxide; chloroacetic acid; chloroacetonitrile; dimethyl sulfate; disulfur dichloride; fluorine; hydrogen iodide; isobutyronitrile; jet fuel 8; malononitrile; methanol; methyl ethyl ketone; phenol; phosphorus oxychloride; phosphorus trichloride; propane; propionitrile; styrene; sulfur dichloride; vinyl chloride; and xylenes.

List of Subjects

Environmental protection, Chemicals, Hazardous substances, Health.

Dated: August 21, 2003.
Charles M. Auer,
Director, Office of Pollution Prevention and Toxics.

[FR Doc. 03-21861 Filed 8-22-03; 10:26 am]

BILLING CODE 6560-50-S